DEPARTMENT OF HEALTH AND HUMAN SERVICES

Centers for Disease Control and Prevention

National Center for Health Statistics (NCHS), ICD-10 Coordination and Maintenance (C&M) Committee Meeting.

AGENCY: Centers for Disease Control and Prevention (CDC), Department of Health and Human Services (HHS).

ACTION: Notice of meeting.

SUMMARY: The CDC, National Center for Health Statistics (NCHS), Classifications and Public Health Data Standards Staff, announces the following meeting of the ICD-10 Coordination and Maintenance (C&M) Committee. This meeting is open to the public, limited only by the number of audio lines available. Online registration is not required.

DATES: The meeting will be held on September 13, 2022, from 9 a.m. to 5 p.m., EDT, and September 14, 2022, from 9 a.m. to 5 p.m., EDT.

ADDRESSES: This is a virtual meeting. Information will be provided on each of the respective web pages when it becomes available. For CDC, NCHS: https://www.cdc.gov/nchs/icd/icd10cm_maintenance.htm. For the Centers for Medicare & Medicaid Services (CMS), HHS: https://www.cms.gov/Medicare/Coding/ICD10/C-and-M-Meeting-Materials.

FOR FURTHER INFORMATION CONTACT: Traci Ramirez, Medical Systems Specialist, CDC, NCHS, 3311 Toledo Road, Hyattsville, Maryland 20782-2064; Telephone: (301) 458-4454; Email: TRamirez@cdc.gov.

SUPPLEMENTARY INFORMATION: Purpose: The ICD-10 Coordination and Maintenance Committee is a public forum for the presentation of proposed modifications to the International Classification of Diseases, Tenth Revision, Clinical Modification (CM) and ICD-10 Procedure Coding System (PCS).

Matters To Be Considered: The tentative agenda will include discussions on the ICD-10-CM and ICD-10-PCS topics listed below. Agenda items are subject to change as priorities dictate. Please refer to the posted agenda for updates one month prior to the meeting.

ICD-10-PCS Topics

1. Administration of Lovotibeglogene autotemcel (lovo-cel) *

2. Administration of Exagamglogene autotemcel (exa-cel) **

3. External Support Device for AV Fistula Creation

4. Implantation of Polymethyl Methacrylate Cranioplasty Plates *

5. Insertion of Transcatheter Bicaval Valve System *

6. Implantation of Bioprosthetic Femoral Venous Valve

7. Intubated Prone Positioning

8. Section X Updates

9. Addenda and Key Updates

* Requestor intends to submit a new technology add-on payment (NTAP) application for FY 2024.

** Request is for an April 1, 2023, implementation date, and the requestor intends to submit an NTAP application for FY 2024 consideration.

Presentations for procedure code requests are conducted by both the requestor and CMS during the C&M Committee meeting. Discussion from the requestor generally focuses on the clinical issues for the procedure or technology, followed by the proposed coding options from a CMS analyst. Topics presented may also include requests for new procedure codes that relate to a new technology add-on payment (NTAP) policy request.

CMS is continuing to modify the approach for presenting the new NTAP-related ICD-10-PCS procedure code requests that involve the administration of a therapeutic agent for the September 13-14, 2022, ICD-10 Coordination and Maintenance Committee meeting. Consistent with the requirements of section 1886(d)(5)(K)(iii) of the Social Security Act, applicants submitted requests to create a unique procedure code to describe the administration of a therapeutic agent, such as the option to create a new code in Section X within the ICD-10-PCS procedure code classification. CMS will initially display only those meeting materials associated with the NTAP-related ICD-10-PCS procedure code requests that involve the administration of a therapeutic agent on the CMS website in early August 2022 at: https://www.cms.gov/Medicare/Coding/ICD10/C-and-M-Meeting-Materials.

The two NTAP-related ICD-10-PCS procedure code requests that involve the administration of a therapeutic agent are:

1. Administration of Lovotibeglogene autotemcel (lovo-cel) *

2. Administration of Exagamglogene autotemcel (exa-cel) **

These topics will not be presented during the September 13-14, 2022, meeting. CMS will solicit public comments regarding any clinical questions or coding options included for these two procedure code topics in advance of the meeting continuing through the end of the respective public comment periods. Members of the public should send any questions or comments to the CMS mailbox at: ICDProcedureCodeRequest@cms.hhs.gov.

CMS intends to post a question-and-answer document in advance of the meeting to address any clinical or coding questions that members of the public may have submitted. Following the conclusion of the meeting, CMS will post an updated question-and-answer document to address any additional clinical or coding questions that members of the public may have submitted during the meeting that CMS was not able to address or that were submitted after the meeting.

The NTAP-related ICD-10-PCS procedure code requests that do not involve the administration of a therapeutic agent and all non-NTAP-related procedure code requests will continue to be presented during the virtual meeting on September 13, 2022, consistent with the standard meeting process.

CMS will make all meeting materials and related documents available at: https://www.cms.gov/Medicare/Coding/ICD10/C-and-M-Meeting-Materials. Any inquiries related to the procedure code topics scheduled for the September 13-14, 2022, ICD-10 Coordination and Maintenance Committee meeting that are under consideration for April 1, 2023, or October 1, 2023, implementation should be sent to the CMS mailbox at: ICDProcedureCodeRequest@cms.hhs.gov.

ICD-10-CM Topics

1. Extraocular Muscle Entrapment

2. IGAN

3. Inappropriate Sinus Tachycardia

4. Insulin Resistance Syndrome

5. Leukodystrophies

6. Nontraumatic Coma Not Elsewhere Classified

7. Sickle Cell Retinopathy

8. Addenda

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-15741 Filed 7-21-22; 8:45 am]

BILLING CODE 4163-18-P